DEPARTMENT OF HOMELAND SECURITY

Federal Emergency Management Agency

44 CFR Part 67

Docket ID FEMA-2011-0002

[Internal Agency Docket No. FEMA-B-1179]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 5, 2011.

ADDRESSES: The corresponding preliminary Flood Insurance Rate Map (FIRM) for the proposed BFEs for each community is available for inspection at the community's map repository. The respective addresses are listed in the table below.

You may submit comments, identified by Docket No. FEMA-B-1179, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | *Elevation in feet (NGVD) +Elevation in feet (NAVD) #Depth in feet above ground ‸ Elevation in meters (MSL): Effective | *Elevation in feet (NGVD) +Elevation in feet (NAVD) #Depth in feet above ground ‸ Elevation in meters (MSL): Modified | Communities affected
Larimer County, Colorado, and Incorporated Areas
Boxelder Creek Overflow Downstream | Approximately 914 feet downstream of Highway 14 | +4935 | +4933 | Unincorporated Areas of Larimer County.
| Approximately 0.6 mile upstream of Highway 14 | +4949 | +4947
Boxelder Creek Overflow West | Approximately 235 feet downstream of I-25 Frontage Road | +4927 | +4928 | Unincorporated Areas of Larimer County.
| Approximately 185 feet downstream of Mulberry Street | None | +4933
Business Park Denrose | Approximately 135 feet upstream of Denrose Court | +4933 | +4932 | Unincorporated Areas of Larimer County.
| Approximately 360 feet upstream of Denrose Court | +4933 | +4934
Business Park Middle | Approximately 550 feet downstream of Denrose Court | +4929 | +4930 | Unincorporated Areas of Larimer County.
| Approximately 75 feet downstream of Denrose Court | +4933 | +4931
Business Park South | Approximately 140 feet downstream of Denrose Court | +4933 | +4931 | Unincorporated Areas of Larimer County.
| At the downstream side of Denrose Court | +4933 | +4934
Business Park West | Approximately 260 feet downstream of Denrose Court | +4929 | +4930 | Unincorporated Areas of Larimer County.
| At the upstream side of Denrose Court | +4933 | +4932
Cache La Poudre L Path | Approximately 350 feet downstream of Prospect Road | +4890 | +4886 | City of Fort Collins, Unincorporated Areas of Larimer County.
| Approximately 440 feet downstream of Timberline Road | +4912 | +4910
Cache La Poudre Lowflow Channel | Approximately 450 feet downstream of County Road 9 | +4881 | +4882 | City of Fort Collins.
| Approximately 300 feet downstream of County Road 9 | +4882 | +4883
Cache La Poudre River | Approximately 800 feet downstream of County Road 9 | +4882 | +4883 | City of Fort Collins.
| Approximately 680 feet downstream of Prospect Road | +4897 | +4898
Shields Street Divided Flow Path—Windtrail Swale (backwater effects from Spring Creek) | From the Spring Creek confluence to approximately 600 feet upstream of the Spring Creek confluence | +5001 | +5000 | City of Fort Collins.
Shields Street Overflow | Approximately 190 feet downstream of Hill Pond Road | +5019 | +5020 | City of Fort Collins.
| Approximately 360 feet upstream of Hill Pond Road | +5025 | +5024
Spring Canyon Park Diversion | At the upstream side of Spring Canyon Park Weir | +5114 | +5122 | City of Fort Collins.
| Approximately 1,450 feet upstream of Spring Canyon Park Weir | +5124 | +5125
Spring Creek | Approximately 970 feet downstream of Prospect Road | +4906 | +4904 | City of Fort Collins, Unincorporated Areas of Larimer County.
| Approximately 0.7 mile upstream of Spring Canyon Park Pedestrian Trail | +5168 | +5167
* National Geodetic Vertical Datum. | + North American Vertical Datum. | # Depth in feet above ground. | ‸ Mean Sea Level, rounded to the nearest 0.1 meter. | ** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Fort Collins
Maps are available for inspection at the Stormwater Utilities Department, 700 Wood Street, Fort Collins, CO 80521.
Unincorporated Areas of Larimer County
Maps are available for inspection at 200 West Oak Street, Fort Collins, CO 80521.
Washtenaw County, Michigan (All Jurisdictions)
Huron River | Approximately 620 feet downstream of the railroad | None | +718 | Township of Superior.
| Approximately 630 feet upstream of Superior Road | None | +719
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Superior
Maps are available for inspection at 3040 North Prospect Road, Ypsilanti, MI 49198.
Bennington County, Vermont (All Jurisdictions)
Batten Kill | Approximately 0.65 mile downstream of River Road | +522 | +524 | Town of Arlington, Town of Manchester, Town of Sunderland, Village of Manchester.
| Approximately 100 feet upstream of Union Street | +682 | +683
Furnace Brook | Approximately 100 feet downstream of Percy Road | +577 | +578 | Town of Bennington.
| Approximately 135 feet upstream of Park Street | +650 | +648
Hoosic River | At the Rensselaer County, New York, boundary | +500 | +498 | Town of Pownal.
| At the Berkshire County, Massachusetts, boundary | +566 | +567
South Stream | At the downstream side of Hunt Street | +621 | +620 | Town of Bennington.
| Approximately 0.5 mile upstream of the Jewett Brook confluence | None | +753
Walloomsac River | Approximately 1,000 feet downstream of Murphy Road | +551 | +550 | Town of Bennington.
| Approximately 2,050 feet downstream of Town Highway 32 | +580 | +578
Walloomsac River | Approximately 90 feet upstream of River Road | None | +542 | Village of North Bennington.
| Approximately 0.53 mile downstream of Murphy Road | None | +546
Warm Brook | Approximately 1.28 miles upstream of Ubu Lane | +773 | +772 | Town of Arlington, Town of Shaftsbury.
| Approximately 2.54 miles upstream of Ubu Lane | None | +781
West Branch Batten Kill | Approximately 50 feet upstream of Depot Street | +698 | +699 | Town of Manchester.
| Approximately 1.09 miles upstream of Rec Park Road | None | +775
Winhall River | At the Windham County boundary | +1250 | +1249 | Town of Winhall.
| Approximately 1,800 feet upstream of Arthur Court | None | +1511
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Arlington
Maps are available for inspection at 3828 Vermont Route 7A, Arlington, VT 05250.
Town of Bennington
Maps are available for inspection at 205 South Street, Bennington, VT 05201.
Town of Manchester
Maps are available for inspection at 6039 Main Street, Manchester, VT 05255.
Town of Pownal
Maps are available for inspection at 467 Center Street, Pownal, VT 05261.
Town of Shaftsbury
Maps are available for inspection at 61 Buck Hill Road, Shaftsbury, VT 05262.
Town of Sunderland
Maps are available for inspection at 181 South Road, East Arlington, VT 05252.
Town of Winhall
Maps are available for inspection at 3 River Road, Bondville, VT 05340.
Village of Manchester
Maps are available for inspection at 45 Union Street, Manchester, VT 05254.
Village of North Bennington
Maps are available for inspection at the Bennington Train Depot, Main Street, North Bennington, VT 05257.
Lewis County, Washington, and Incorporated Areas
Chehalis River | Approximately 0.84 mile upstream of Prather Road | +150 | +151 | City of Centralia, City of Chehalis, Unincorporated Areas of Lewis County.
| Approximately 0.7 mile upstream of Elk Creek Road | None | +324
China Creek (backwater effects from Chehalis River) | Approximately 220 feet downstream of I-5 | +176 | +177 | City of Centralia.
| Approximately 80 feet downstream of Cedar Street | +176 | +177
China Creek (backwater effects from Skookumchuck River) | Approximately 74 feet upstream of North Gold Street | +188 | +190 | City of Centralia.
| Approximately 1,335 feet upstream of North Gold Street | +189 | +190
Coal Creek (backwater effects from Salzer Creek) | At the Salzer Creek confluence | +179 | +181 | City of Chehalis.
| At the downstream side of National Avenue | +179 | +181
Coffee Creek (backwater effects from Skookumchuck River) | At the Skookumchuck River confluence | +186 | +187 | City of Centralia, Unincorporated Areas of Lewis County.
| At the upstream side of Reynolds Avenue | +187 | +191
Eagle Creek (backwater effects from Lincoln Creek) | At the Lincoln Creek confluence | None | +155 | Unincorporated Areas of Lewis County.
| Approximately 2.3 miles upstream of Lincoln Creek Road | None | +155
Elk Creek (backwater effects from Chehalis River) | At the Chehalis River confluence | +305 | +317 | Unincorporated Areas of Lewis County.
| Approximately 0.43 mile upstream of Elk Creek Road | +316 | +317
Hanaford Creek | At the Skookumchuck River confluence | +201 | +202 | Unincorporated Areas of Lewis County.
| Approximately 0.46 mile upstream of the Packwood Creek confluence | None | +217
Lincoln Creek | Approximately 722 feet upstream of the Chehalis River confluence | +154 | +155 | Unincorporated Areas of Lewis County.
| At the downstream side of Teague Road | None | +159
Salzer Creek | At the Chehalis River confluence | +179 | +181 | City of Centralia, City of Chehalis, Unincorporated Areas of Lewis County.
| Approximately 0.32 mile upstream of Proffitt Road | +190 | +191
Skookumchuck River | At the upstream side of Reynolds Street | +187 | +191 | City of Centralia, Unincorporated Areas of Lewis County.
| Approximately 0.98 mile upstream of Downing Road | +207 | +212
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Centralia
Maps are available for inspection at 118 West Maple Street, Centralia, WA 98531.
City of Chehalis
Maps are available for inspection at 1321 South Market Boulevard, Chehalis, WA 98532.
Unincorporated Areas of Lewis County
Maps are available for inspection at 351 Northwest North Street, Chehalis, WA 98532.

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-8116 Filed 4-5-11; 8:45 am]

BILLING CODE 9110-12-P